DEPARTMENT OF TRANSPORTATION

Federal Aviation Administration

14 CFR Part 39

[Docket No. FAA-2006-25926; Directorate Identifier 2000-CE-17-AD; Amendment 39-14946; AD 2003-17-05R1]

RIN 2120-AA64

Airworthiness Directives; Short Brothers & Harland Ltd. Models SC-7 Series 2 and SC-7 Series 3 Airplanes

AGENCY: Federal Aviation Administration (FAA), Department of Transportation (DOT).

ACTION: Final rule.

SUMMARY: We are adopting a new airworthiness directive (AD) to revise AD 2003-17-05, which applies to Short Brothers & Harland (Shorts) Models SC-7 Series 2 and SC-7 Series 3 airplanes. AD 2003-17-05 currently establishes a technical service life for these airplanes and allows you to incorporate modifications, inspections, and replacements of certain life limited items to extend the life limits of these airplanes. Since we issued AD 2003-17-05, Shorts Service Bulletin SB 51-51 was revised to Revision 8, dated July 5, 2006, and the European Aviation Safety Agency (EASA), which is the Technical Agent for the Member States of the European Community, issued an AD for the European Community to correct an unsafe condition for the specified product. AD 2003-17-05 contains conflicting information on the repetitive visual inspection requirement. Consequently, this AD would retain the technical service life for these airplanes; would continue to allow modifications, inspections, and replacements of certain life limited items to extend the life limits of these airplanes; and would clarify the repetitive visual inspection requirement between one of the service bulletins and the maintenance program if an operator chooses to extend the life limit. The actions specified by this AD are intended to clarify the inspection information to prevent failure of critical structure of the aircraft caused by fatigue.

DATES: This AD becomes effective on March 23, 2007.

The Director of the Federal Register approved the incorporation by reference of Shorts Service Bulletin Number 51-51, Revision No: 8, dated July 5, 2006; listed in this AD as of March 23, 2007.

The Director of the Federal Register approved the incorporation by reference of Shorts Service Bulletin No. 51-51, Revision No.: 6, dated: March 14, 1983; and Shorts Service Bulletin No. 51-52, Revision No.: 4, dated: July 16, 2002, listed in this AD as of September 29, 2003 (68 FR 50689, August 22, 2003).

ADDRESSES: For service information identified in this AD, contact Short Brothers PLC, P.O. Box 241, Airport Road, Belfast BT3 9DZ Northern Ireland; telephone: 011 44 (0) 28 9045 8444; facsimile: 011 44 (0) 28 9073 3396.

To view the AD docket, go to the Docket Management Facility; U.S. Department of Transportation, 400 Seventh Street, SW., Nassif Building, Room PL-401, Washington, DC 20590-001 or on the Internet at http://dms.dot.gov. The docket number is FAA-2006-25926; Directorate Identifier 2000-CE-17-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

On November 20, 2006, we issued a proposal to amend part 39 of the Federal Aviation Regulations (14 CFR part 39) to include an AD that would apply to all Shorts Models SC-7 Series 2 and SC-7 Series 3 airplanes. This proposal was published in the Federal Register as a notice of proposed rulemaking (NPRM) on November 28, 2006 (71 FR 68766). The NPRM proposed to revise AD 2003-17-05 to retain the technical service life for these airplanes; continue to allow modifications, inspections, and replacements of certain life limited items to extend the life limits of these airplanes; and clarify the repetitive visual inspection requirement between one of the service bulletins and the maintenance program if an operator chooses to extend the life limit.

Comments

We provided the public the opportunity to participate in developing this AD. The following presents the comments received on the proposal and FAA's response to each comment:

Comment Issue No. 1: Proposed Revision or Supersedure of EASA AD 2006-0190

Shorts provides comments pertaining to their proposal to EASA to revise or supersede EASA AD 2006-0190. Shorts recommends that the FAA consider postponing any revision to AD 2003-17-05 until EASA revises or supersedes EASA AD 2006-0190.

For clarification reasons, this is a revision to AD 2003-17-05. However, EASA superseded EASA AD 2006-0190 with EASA AD 2007-0013, dated: January 11, 2007, which was after the closing of the comment period of this NPRM. The FAA has evaluated the new EASA AD and has determined that this revised FAA AD incorporates the intent of the EASA AD without any changes needed. Please note that the EASA AD does not address the six airplanes that are covered by Shorts Service Bulletin No. 51-52, Revision No.: 4, dated: July 16, 2002 as this AD does. We are not changing the final rule AD action as a result of this comment.

Comment Issue No. 2: Life Limits of the Model SC-7 Series 3 Airplane, Serial Number (S/N) SH1845

Shorts provides comments that it would be prudent to include the increase of the life limits of the Model SC-7 Series 3 airplane, S/N SH1845, that result from an approved alternative method of compliance (AMOC).

The increase of the life limits for the Model SC-7 Series 3 airplane, S/N SH1845, was approved as part of an AMOC. The life limit originally published in the AD remains valid. It is the AMOC that extends it. Any FAA-approved AMOC will include actions necessary to address the unsafe condition in an acceptable manner to deviate from the AD. The AD remains in effect if the AMOC is not complied with. For this reason, it would not be appropriate to change the AD to incorporate an AMOC. This AD maintains the effectivity of all AMOCs.

We are not changing the final rule AD action as a result of this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD would affect 22 airplanes in the U.S. registry.

Since the action of the AD is life-limiting the structural airframe, the actual operating cost of this AD is the cost of the airplane minus any non-life-limited parts that are salvageable and can be sold. There is no cost impact difference in this AD than that originally presented in AD 2003-17-05, except for the recalculation of the labor costs using the revised figure of $80 per hour instead of $65 per hour.

The following paragraphs present the costs if you choose to incorporate the inspections and modifications necessary to extend the life limit.

We estimate the following costs to do the optional aircraft life extension on 16 airplanes (all airplanes that do not have serial number SH1889, SH1943, SH1960, SH1845, SH1847, or SH1883) as prescribed in Shorts Service Bulletin No. 51-51:

Labor cost | Parts cost | Total cost per airplane | Total cost on U.S. operators
350 work-hours × $80 per hour = $28,000 | $90,000 | $118,000 | $1,888,000

We estimate the following to do the aircraft life extension prescribed in Shorts Service Bulletin No. 51-52 (which includes Service Bulletin 51-51) for serial numbers SH1889, SH1943, and SH1960:

Labor cost | Parts cost | Total cost per airplane | Total cost on U.S. operators
470 work-hours × $80 per hour = $37,600 | $112,000 | $149,600 | $448,800

We estimate the following to do the aircraft life extension prescribed in Shorts Service Bulletin No. 51-52 for serial numbers SH1845, SH1847, and SH1883:

Labor cost | Parts cost | Total cost per airplane | Total cost on U.S. operators
120 work-hours × $80 per hour = $9,600 | $22,000 | $31,600 | $94,800

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-25926; Directorate Identifier 2000-CE-17-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-17-05, Amendment 39-13279 (68 FR 50689, August 22, 2003), and adding the following new AD:

2003-17-05R1 Short Brothers & Harland Ltd.: Amendment 39-14946; Docket No. FAA-2006-25926; Directorate Identifier 2000-CE-17-AD.

Effective Date

(a) This AD becomes effective on March 23, 2007.

Affected ADs

(b) This AD revises AD 2003-17-05, Amendment 39-13279.

Applicability

(c) This AD applies to Models SC-7 Series 2 and SC-7 Series 3 airplanes, all serial numbers, that are certificated in any category.

Unsafe Condition

(d) This revised AD results from conflicting information of the repetitive inspection requirement between one of the service bulletins and the maintenance program if an operator chooses to extend the life limit. We are issuing this AD to clarify the inspection information to prevent failure of critical structure of the aircraft caused by fatigue.

Compliance

(e) Do not operate the airplane upon accumulating the applicable life limit or within the next 90 days after September 29, 2003 (the effective date of AD 2003-17-05), whichever occurs later. For owners/operators that do not have a record of the number of flights on the aircraft, assume the number of flights on the basis of two per operating hour. The following table presents the life limits:

Table 1.—Original Life Limits
Serial No. | Life limit
(1) SH1845 and SH1883 | 10,000 hours time-in-service (TIS).
(2) SH1847 | 15,200 hours TIS.
(3) SH1889 | 13,805 flights.
(4) SH1943 | 11,306 flights.
(5) SH1960 | 4,142 flights.
(6) All airplanes that do not have serial number SH1845, SH1883, SH1847, SH1889, SH1943, or SH1960 | 20,000 flights.

(f) For airplanes with serial numbers SH1845, SH1847, or SH1883: You can extend the life limits by doing the actions of Shorts Service Bulletin No. 51-52, Revision No.: 4, dated: July 16, 2002 (and all service information or modifications referenced in the Planning Information section of the service bulletin), and Shorts Skyvan Maintenance Program, Amendment List No. 22, dated May 7, 2003, or Amendment List No. 23, dated December 14, 2004, or Amendment List No. 24, dated November 2, 2006. You may use any future amendment to this maintenance program if it does not change the inspection intervals, requirements, or the life limits of this AD or the previous amendments. The following table presents the extended life limit:

Table 2.—Extended Life Limits After Incorporation of Required Inspections and Modifications
(1) SH1845 | 13,456 hours TIS.
(2) SH1847 | 20,200 hours TIS.
(3) SH1883 | 15,000 hours TIS.

(g) For airplanes with serial numbers SH1889, SH1943, or SH1960: You can extend the life limits by doing the actions of Shorts Service Bulletin No. 51-52, Revision No.: 4, dated: July 16, 2002 (and all service information or modifications referenced in the Planning Information section of the service bulletin including Shorts Service Bulletin No. 51-51, Revision No.: 6, dated: March 14, 1983; or Shorts Service Bulletin No. 51-51, Revision No.: 8, dated: July 5, 2006. You cannot use Shorts Service Bulletin No. 51-51, Revision No.: 7, dated: January 2005.), and Shorts Skyvan Maintenance Program, Amendment List No. 22, dated May 7, 2003, or Amendment List No. 23, dated December 14, 2004, or Amendment List No. 24, dated November 2, 2006. You may use any future amendment to this maintenance program if it does not change the inspection intervals, requirements, or the life limits of this AD or the previous amendments. The following table presents the extended life limit:

Table 3.—Extended Life Limits After Incorporation of Required Inspections and Modifications
Serial No. | Extended life limit
(1) SH1889 | 20,094 flights.
(2) SH1943 | 17,325 flights.
(3) SH1960 | 8,449 flights.

(h) For airplanes that do not have serial numbers SH1845, SH1847, SH1883, SH1889, SH1943, or SH1960: You can extend the life limit to 27,000 flights by doing the actions of Shorts Service Bulletin No. 51-51, Revision No.: 6, dated: March 14, 1983; or Shorts Service Bulletin No. 51-51, Revision No.: 8, dated: July 5, 2006; and Shorts Skyvan Maintenance Program, Amendment List No. 22, dated May 7, 2003; or Amendment List No. 23, dated December 14, 2004 or Amendment List No. 24, dated November 2, 2006. You may use any future amendment to this maintenance program if it does not change the inspection intervals, requirements, or the life limits of this AD or the previous amendments. You cannot use Shorts Service Bulletin No. 51-51, Revision No.: 7, dated: January 2005.

(i) The repetitive visual inspection requirements using Shorts Service Bulletin No. 57-59, which is referenced on page 3 of Shorts Service Bulletin No. 51-51, Revision No.: 6, dated: March 14, 1983, paragraph C (Special limitations) are every 2,400 flights; and the repetitive visual inspection program in Skyvan Maintenance Program, Maintenance Program Appendix 1, parts A and B (Section 57-00, Item 3) are every 1,100 flights or 800 hours TIS intervals, whichever occurs first. You must use the repetitive inspection intervals of the Skyvan Maintenance Program for the repetitive inspection of the wing structure, skin, and skin doublers to be every 1,100 flights or 800 hours TIS, whichever occurs first and not the 2,400 flights as stated in Shorts Service Bulletin No. 51-51, Revision No.: 6, dated: March 14, 1983.

Alternative Methods of Compliance (AMOCs)

(j) The Manager, Standards Office, Small Airplane Directorate, FAA, ATTN: Doug Rudolph, Aerospace Engineer, FAA, Small Airplane Directorate, 901 Locust, Room 301, Kansas City, Missouri 64106; telephone: (816) 329-4059; facsimile: (816) 329-4090, has the authority to approve AMOCs for this AD, if requested using the procedures found in 14 CFR 39.19.

(k) AMOCs approved for AD 2003-17-05 are approved for this AD.

Material Incorporated by Reference

(l) You must use Shorts Service Bulletin Number 51-52, Revision No: 4, dated July 16, 2002; or Shorts Service Bulletin Number 51-51, Revision No: 6, dated March 14, 1983; or Shorts Service Bulletin Number 51-51, Revision No: 8, dated July 5, 2006, to do the actions required by this AD, unless the AD specifies otherwise.

(1) The Director of the Federal Register approved the incorporation by reference of Shorts Service Bulletin Number 51-51, Revision No: 8, dated July 5, 2006, under 5 U.S.C. 552(a) and 1 CFR part 51.

(2) The Director of the Federal Register previously approved the incorporation by reference of Shorts Service Bulletin No. 51-51, Revision No.: 6, dated: March 14, 1983; and Shorts Service Bulletin No. 51-52, Revision No.: 4, dated: July 16, 2002, on September 29, 2003 (68 FR 50689, August 22, 2003).

(3) For service information identified in this AD, contact Short Brothers PLC, P.O. Box 241, Airport Road, Belfast BT3 9DZ Northern Ireland; telephone: 011 44 (0) 28 9045 8444; facsimile: 011 44 (0) 28 9073 3396.

(4) You may review copies at the FAA, FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on February 8, 2007.
Kim Smith,
Manager, Small Airplane Directorate, Aircraft Certification Service.

[FR Doc. E7-2505 Filed 2-15-07; 8:45 am]

BILLING CODE 4910-13-P